DEPARTMENT OF EDUCATION

34 CFR Part 300

[DOCKET ID ED-2012-OSERS-0020]

RIN 1820-AB65

Assistance to States for the Education of Children with Disabilities

AGENCY: Office of Special Education and Rehabilitative Services, Department of Education.

ACTION: Notice of proposed rulemaking; extension of public comment period.

SUMMARY: On September, 18, 2013, we published in the Federal Register a notice of proposed rulemaking regarding local maintenance of effort to clarify existing policy and make other related changes. This notice established a December 2, 2013, deadline for the submission of written comments. We are extending the comment period to December 10, 2013.

DATES: For the proposed rule published September 18, 2013 (78 FR 57324), comments must be received on or before December 10, 2013.

ADDRESSES: Submit your comments through the Federal eRulemaking Portal or via postal mail, commercial delivery, or hand delivery. We will not accept comments by fax or by email. Please submit your comments only one time, in order to ensure that we do not receive duplicate copies. In addition, please include the Docket ID at the top of your comments.

• Federal eRulemaking Portal: Go to www.regulations.gov to submit your comments electronically. Information on using Regulations.gov, including instructions for accessing agency documents, submitting comments, and viewing the docket is available on the site under “Are you new to the site?”

• U.S. Mail, Commercial Delivery, or Hand Delivery: If you mail or deliver your comments about these proposed regulations, address them to Mary Louise Dirrigl, U.S. Department of Education, 400 Maryland Avenue SW., room 5103, Potomac Center Plaza, Washington, DC 20202-2600.

• Privacy Note: The Department's policy is to make all comments received from members of the public available for public viewing in their entirety on the Federal eRulemaking Portal at www.regulations.gov. Therefore, commenters should be careful to include in their comments only information that they wish to make publicly available.

FOR FURTHER INFORMATION CONTACT: Mary Louise Dirrigl, U.S. Department of Education, 400 Maryland Avenue SW., room 5103, Potomac Center Plaza, Washington, DC 20202-2600. Telephone: (202) 245-7605.

If you use a telecommunications device for the deaf (TDD) or a text telephone (TTY), call the Federal Relay Service (FRS), toll free, at 1-800-877-8339.

SUPPLEMENTARY INFORMATION: Background: On September 18, 2013, in a notice of proposed rulemaking in the Federal Register (78 FR 57324), the Secretary proposed to amend the regulations under Part B of the Individuals with Disabilities Education Act (IDEA) regarding local maintenance of effort. The Secretary proposed to clarify existing policy and make other related changes regarding (1) the compliance standard; (2) the eligibility standard; (3) the level of effort required of a local educational agency (LEA) in the year after it fails to maintain effort under the IDEA; and (4) the consequence for a failure to maintain local effort. The Secretary also sought comment on whether States and LEAs or other interested parties think these proposed amendments will be helpful in increasing understanding of, and ensuring compliance with, the current local maintenance of effort requirements. Specifically, the Secretary sought comment from States and LEAs to identify where they are experiencing the most problems in implementing the maintenance of effort requirements.

The notice of proposed rulemaking established a December 2, 2013, deadline for the submission of written comments. However, www.regulations.gov, the Government-wide portal that allows the public to comment electronically on notices in the Federal Register, was unavailable most of November 4-6, 2013, and November 10-12, 2013. To ensure that anyone unable to comment during that period has the opportunity to do so, we are extending the closing date of the comment period to December 10, 2013.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: November 25, 2013.
Michael K. Yudin,
Acting Assistant Secretary for Special Education and Rehabilitative Services.

[FR Doc. 2013-28667 Filed 11-27-13; 8:45 am]

BILLING CODE 4000-01-P